DEPARTMENT OF THE INTERIOR

Bureau of Land Management

[NV-060-1430-ES; N-82841; 8-08807; TAS: 14X1109]

Notice of Realty Action: Classification and Conveyance for Recreation and Public Purposes of Public Lands in Lander County, NV

AGENCY: Bureau of Land Management, Interior.

ACTION: Notice.

SUMMARY: The Bureau of Land Management (BLM) has examined and found suitable for classification and conveyance under the provisions of the Recreation and Public Purposes (R&PP) Act, as amended, approximately 80 acres of public land in Lander County, Nevada. Lander County proposes to use the land for a waste water treatment facility.

DATES: Interested parties may submit written comments regarding the proposed conveyance or classification of the lands until December 1, 2008.

ADDRESSES: Mail written comments to the BLM Manager, Mount Lewis Field Office, 50 Bastian Road, Battle Mountain, NV 89820.

FOR FURTHER INFORMATION CONTACT: Chuck Lane, (775) 635-4000.

SUPPLEMENTARY INFORMATION: In accordance with Section 7 of the Taylor Grazing Act, (43 U.S.C. 315f), and Executive Order No. 6910, the following described public land in Lander County, Nevada, has been examined and found suitable for classification and conveyance under the provisions of the R&PP Act, as amended, (43 U.S.C. 869 et seq.):

Mount Diablo Meridian, Nevada

T. 19 N., R. 43 E.,

Sec. 15, E½NE¼

The area described contains 80 acres, more or less.

In accordance with the R&PP Act, Lander County filed an application for the above described 80 acres of public land to be developed as a waste water treatment facility. Additional detailed information pertaining to this application, plan of development, and site plans is in case file N-82841 located in the BLM Battle Mountain District Office.

The land is not needed for any Federal purpose. The conveyance is consistent with the Shoshone/Eureka Resource Management Plan, dated February 26, 1986, and would be in the public interest. The conveyance, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The conveyance will also be subject to: Valid existing rights.

On publication of this notice in the Federal Register the land described above will be segregated from all other forms of appropriation under the public land laws, including the general mining laws, except for conveyance under the R&PP Act, leasing under the mineral leasing laws, and disposals under the mineral material disposal laws.

Interested parties may submit comments involving the suitability of the land for a waste water treatment facility. Comments on the classification are restricted to whether the land is physically suited for the proposal, whether the use will maximize the future use or uses of the land, whether the use is consistent with local planning and zoning, or if the use is consistent with State and Federal programs.

Interested parties may submit comments regarding the specific use proposed in the application and plan of development, whether the BLM followed proper administrative procedures in reaching the decision to convey under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the Field Manager, Mount Lewis Field Office, will be considered properly filed. Electronic mail, facsimile, or telephone comments will not be considered properly filed. Comments, including names and addresses of respondents, will be available for public review. Before including your address, telephone number, e-mail address, or other personal identifying information in your comment, be advised that your entire comment—including your personal identifying information—may be made publicly available at any time. While you can ask us in your comment to withhold your personal identifying information from public review, we cannot guarantee that we will be able to do so.

Any adverse comments will be reviewed by the BLM Nevada State Director. In the absence of any adverse comments, the classification of the land described in this notice will become effective on December 15, 2008. The lands will not be available for conveyance until after the classification becomes effective.

(Authority: 43 CFR 2741.5)

Dated: September 30, 2008.
Stephen C. Drummond,
Acting Field Manager, Mount Lewis Field Office.

[FR Doc. E8-24385 Filed 10-14-08; 8:45 am]

BILLING CODE 4310-HC-P